NATIONAL SCIENCE FOUNDATION

Sunshine Act Meetings

The National Science Board's (NSB) NSB-NSF Commission on Merit Review hereby gives notice of the scheduling of a videoconference meeting for the transaction of National Science Board business pursuant to the National Science Foundation Act and the Government in the Sunshine Act.

TIME AND DATE: Wednesday, May 24, 2023, from 12:00 p.m.-1:00 p.m. EDT.

PLACE: This meeting will be held by videoconference through the National Science Foundation.

STATUS: Open.

MATTERS TO BE CONSIDERED: The agenda of the meeting is: Chair's opening remarks; ARIS Listening session findings; Discussion of Broader Impacts; Chair's closing remarks.

CONTACT PERSON FOR MORE INFORMATION: Point of contact for this meeting is: (Chris Blair, cblair@nsf.gov), 703/292-7000. Members of the public can observe this meeting through a YouTube livestream. The YouTube link will be available from the NSB web page.

Christopher Blair,
Executive Assistant to the National Science Board Office.

[FR Doc. 2023-10995 Filed 5-19-23; 11:15 am]

BILLING CODE 7555-01-P